DEPARTMENT OF THE INTERIOR

Bureau of Land Management

[BLM_MT_FRN_MO4500178570]

Notice of Availability of the Proposed Resource Management Plan Amendment and Final Supplemental Environmental Impact Statement for the Miles City Field Office, Montana

AGENCY: Bureau of Land Management, Interior.

ACTION: Notice of availability.

SUMMARY: In compliance with the National Environmental Policy Act of 1969, as amended (NEPA), and the Federal Land Policy and Management Act of 1976, as amended, the Bureau of Land Management (BLM) has prepared a Proposed Resource Management Plan (RMP) Amendment and Final Supplemental Environmental Impact Statement (EIS) for public lands managed by the Miles City Field Office and by this notice is announcing the opportunity to protest the Proposed RMP Amendment.

DATES: The BLM Director will consider protests to the Proposed RMP Amendment. Protests must be postmarked or electronically submitted on the BLM's ePlanning site within 30 days after the Environmental Protection Agency's (EPA) publication of a Notice of Availability (NOA) of the Proposed RMP Amendment and Final EIS in the Federal Register. The EPA usually publishes NOAs on Fridays.

ADDRESSES: The Proposed RMP Amendment and Final Supplemental EIS are available for review on the BLM ePlanning project website at https://eplanning.blm.gov/eplanning-ui/project/2021155/510. Documents pertinent to this proposal may be examined online at https://eplanning.blm.gov/eplanning-ui/project/2021155/510 and at the Miles City Field Office.

Instructions for filing a protest on the Proposed RMP Amendment can be found at https://www.blm.gov/programs/planning-and-nepa/public-participation/filing-a-plan-protest and at 43 CFR 1610.5-2. All protests must be submitted in writing and mailed to one of the following by any one of the following methods:

• Website: https://eplanning.blm.gov/eplanning-ui/project/2021155/510.

• Regular and Overnight Mail: BLM Director, Attention: Protest Coordinator (HQ210), Denver Federal Center, Building 40 (Door W-4), Lakewood, CO 80215.

FOR FURTHER INFORMATION CONTACT: Irma Nansel, Project Manager, telephone (406) 233-3653; or at the address BLM Miles City Field Office, 111 Garryowen Road, Miles City, MT 59301; email inansel@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM prepared the Proposed Plan Amendment and Final Supplemental EIS to address a United States District Court for the District of Montana order (Western Organization of Resource Councils, et al. v. BLM; CV 00076-GF-BMM; 8/3/2022). The Final Supplemental EIS provides additional land use planning level analysis that considers no-leasing and limited coal leasing alternatives; discloses the public health impacts, both climate and non-climate, of burning fossil fuels (coal, oil, and gas); and completes new coal screens in accordance with 43 CFR 3420.1-4 to determine the lands to be made available for further consideration for coal leasing in the planning area.

The Miles City planning area is located in Carter, Custer, Daniels, Dawson, Fallon, Garfield, McCone, Powder River, Prairie, Richland, Roosevelt, Rosebud, Sheridan, Treasure, Wibaux, and portions of Big Horn and Valley Counties, Montana, and encompasses approximately 2.7 million surface acres of BLM-managed public land and 11.7 million acres of Federal coal mineral estate.

The BLM has analyzed four alternatives in detail, including the No Action Alternative and three alternatives that vary the amount of BLM-administered Federal coal available for further consideration for coal leasing.

The No Action Alternative is the decision from the 2019 Approved RMP Amendment, which identified approximately 1,214,380 acres of Federal coal as available for further consideration for coal leasing across the Miles City Field Office.

The action alternatives applied the coal screens (43 CFR 3420.1-4(e)) using current data and evaluated the issues identified through internal and public scoping. Application of coal screen 1 (development potential) identified approximately 1,745,000 Federal coal acres as having development potential. The action alternatives also address the NEPA deficiencies identified by the court order associated with the application of the multiple-use screen. Specifically, they apply a multiple-use climate change criterion that uses greenhouse gas emissions as a proxy for climate change. Reducing availability of Federal lands for coal leasing reduces the contribution of greenhouse gas emissions from the development and combustion of Federal coal from the planning area.

Alternative B analyzes approximately 69,310 acres of Federal coal as available for further consideration for coal leasing. Alternative C analyzes approximately 810 acres of Federal coal as available for further consideration for coal leasing, and Alternative D, the Proposed RMP, analyzes 0 (zero) acres of Federal coal as available for further consideration for coal leasing. The BLM revised the coal reasonably foreseeable development scenario from the 2015 Miles City RMP using the most current publicly available coal production data to forecast development during the planning period, which runs to 2038. The revised reasonably foreseeable development scenario was applied to all alternatives.

The BLM further considered one additional alternative but dismissed it from detailed analysis, as explained in the Final Supplemental EIS.

The BLM selected Alternative D as the proposed plan for allocating BLM administered coal; under this alternative, no Federal coal would be available for leasing within the Miles City Field Office planning area. The proposed plan does not affect the area with coal development potential or the area determined to be suitable for surface coal mining. The BLM has determined that additional leasing of Federal coal is not necessary based on the current analysis in the Final Supplemental EIS. The analysis indicates that operating mines in the planning area have existing leases with sufficient coal reserves to maintain existing mine production levels until 2035 for Spring Creek Mine and 2060 for Rosebud Mine.

The BLM published a notice of availability for the Draft Supplemental EIS and Potential RMP Amendment in the Federal Register on May 8, 2023 (88 FR 29689), which initiated a 90-day comment period. On June 6th, the BLM hosted a public meeting at the BLM Miles City Field Office in Miles City, Montana, to present the Draft Supplemental EIS and RMP Amendment to the public and solicit comments. The BLM also hosted an on-line public meeting on June 7, 2023. Eight members of the public attended the online meeting. During the public comment period, the BLM received 14 unique written submissions containing 167 substantive comments. The Draft Supplemental EIS comments helped the BLM refine the Final Supplemental EIS and guided the development of the Proposed RMP Amendment.

Protest of the Proposed RMP

The BLM planning regulations state that any person who participated in the preparation of the RMP and has an interest that will or may be adversely affected by approval of the Proposed RMP may protest its approval. Protest of the Proposed RMP constitutes the final opportunity for administrative review of the proposed land use planning decisions prior to the BLM adopting an approved RMP. Instructions for filing a protest with the BLM Director may be found online at https://www.blm.gov/programs/planning-and-nepa/public-participation/filing-a-plan-protest and at 43 CFR 1610.5-2. All protests must be in writing and mailed to the appropriate address, as set forth in the ADDRESSES section earlier or submitted electronically through the BLM ePlanning project website as described previously. Protests submitted electronically by any means other than the ePlanning project website will be invalid unless a protest is also submitted as a hard copy. The BLM will render a written decision on each protest. The Director's protest decision shall be the final decision of the Department of the Interior. Responses to protest issues will be compiled and documented in a Protest Resolution Report made available following the protest resolution online at: https://www.blm.gov/programs/planning-and-nepa/public-participation/protest-resolution-reports. After resolution of protests, the BLM will issue a Record of Decision and Approved RMP.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Sonya I. Germann,
State Director.

[FR Doc. 2024-10793 Filed 5-16-24; 8:45 am]

BILLING CODE 4331-20-P